DEPARTMENT OF TRANSPORTATION

Federal Motor Carrier Safety Administration

[Docket No. FMCSA-2014-0377]

Agency Information Collection Activities; New Information Collection Request: Electronic Logging Device (ELD) Vendor Registration

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment on the approval of a new information collection request (ICR) entitled, Electronic Logging Device Vendor Registration. This ICR will be used to enable manufacturers of ELDs to register with the Federal Motor Carrier Safety Administration (FMCSA).

DATES: We must receive your comments on or before December 29, 2014.

ADDRESSES: You may submit comments identified by Federal Docket Management System (FDMS) Docket Number FMCSA-2014-0377 using any of the following methods:

• Federal eRulemaking Portal: http://www.regulations.gov. Follow the online instructions for submitting comments.

• Fax: 1-202-493-2251.

• Mail: Docket Services; U.S. Department of Transportation, 1200 New Jersey Avenue SE., West Building, Ground Floor, Room W12-140, 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Brian Routhier, Transportation Specialist, Technology Division, Office of Analysis, Research and Technology, Federal Motor Carrier Safety Administration, Department of Transportation, West Building 6th Floor, 1200 New Jersey Avenue SE., Washington, DC 20590. Telephone: 202-366-1225; email brian.routhier@dot.gov. Office hours are from 9:00 a.m. to 5 p.m., Monday through Friday, except Federal holidays.

SUPPLEMENTARY INFORMATION:

Background: On March 28, 2014, FMCSA published a Supplemental notice of proposed rulemaking (SNPRM) entitled, “Electronic Logging Devices and Hours of Service Supporting Documents,” (79 FR 17656), which proposed to require the use of ELDs by those within the motor carrier industry who are currently subject to Records of Duty Status (RODS) preparation requirements. Specifically, the final rule proposed: (1) Requiring new technical specifications for ELDs that address statutory requirements; (2) mandating ELDs for drivers currently using RODS. To ensure consistency among manufacturers and devices, functional specifications were published with the SNPRM. Providers' certification of compliance to these functional specifications is required. Providers will also be required to register their compliant devices with FMCSA.

The ELD providers will be asked to self-certify and register their devices with FMCSA online via an application Form MCSA-5893, “Electronic Logging Device (ELD) Vendor Registration and Certification.” FMCSA expects 100% of respondents to submit their information electronically. Once completed, FMCSA will issue a unique identification number that the provider will embed in their device(s).

The FMCSA will maintain a list on its Web site of the current ELD providers and devices that have been certified (by the providers) to meet the technical specifications. The information will be necessary for fleets and drivers to easily find a compliant ELD for their use in meeting the FMCSA regulation requiring the use of ELDs.

Title: Electronic Logging Device (ELD) Vendor Registration.

OMB Control Number: 2126-00XX.

Type of Request: New collection.

Respondents: ELD vendors.

Estimated Number of Respondents: 22. FMCSA estimates that there will be 22 respondents, 20 U.S. and 2 foreign ELD vendors, and that each vendor will register an average of 4 devices. The total of 88 devices (4 devices × 22 vendors) exceeds the number of devices that FMCSA is currently aware of, but the Agency has opted to use a conservatively high count in order to avoid under-estimating the burden for this ICR.

Estimated Time per Response: 15 minutes first year and 7.5 minutes in subsequent years. Each vendor will take an estimated 15 minutes of preparation time plus 15 minutes per device to complete the initial registration, for a total of 75 minutes (15 minutes of preparation time + 4 devices per vendor × 15 minutes per device) per vendor in the first year. In subsequent years, it is expected that registration updates will take half the initial time; therefore respondents will take an estimated 7.5 minutes of preparation time + 4 devices per vendor × 7.5 minutes per device to complete registration updates, for a total of 37.5 minutes per vendor in subsequent years.

Expiration Date: N/A. This is a new ICR.

Frequency of Response: On occasion.

Estimated Total Annual Burden: 18 hours [((22 respondents × 75 minutes in year 1) + (22 respondents × 37.5 minutes in year 2) + (22 respondents × 37.5 minutes in year 3)) = 3,300 minutes ÷ 60 minutes per hour = 55 ÷ 3 year approval period = 18.33 hours, rounded to 18 hours].

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: October 21, 2014.
G. Kelly Regal,
Associate Administrator for Office of Research and Information Technology and Chief Information Officer.

[FR Doc. 2014-25603 Filed 10-27-14; 8:45 am]

BILLING CODE 4910-EX-P